DEPARTMENT OF AGRICULTURE

Agricultural Marketing Service

[Doc. #AMS-CN-12-0048]

Advisory Committee on Universal Cotton Standards

AGENCY: Agricultural Marketing Service, USDA.

ACTION: Notice of Re-establishment of the U.S. Department of Agriculture (USDA) Advisory Committee on Universal Cotton Standards and a Request for Nominations.

SUMMARY: The U.S. Department of Agriculture (USDA) intends to re-establish the Advisory Committee on Universal Cotton Standards (Committee). The Committee is necessary and in the public interest. The Committee reviews official Universal Standards for American Upland cotton prepared by USDA and would make recommendations to the Secretary of Agriculture regarding the establishment or revision of standards. USDA also seeks nominations of individuals to be considered for selection as Committee members.

DATES: Written nominations must be received on or before November 2, 2012.

ADDRESSES: Nominations and applications materials should be sent to Darryl Earnest, Deputy Administrator, Cotton & Tobacco Programs, AMS, USDA, 3275 Appling Road, Room 11, Memphis, TN 38133.

FOR FURTHER INFORMATION CONTACT: James Knowlton, Designated Federal Official; Phone: (901) 384-3030; Email: James.Knowlton@ams.usda.gov.

SUPPLEMENTARY INFORMATION: Pursuant to the Federal Advisory Committee Act (5 U.S.C. App.), notice is hereby given that the Secretary of Agriculture intends to re-establish the Committee for two years and the Committee would be composed of foreign and domestic representatives of the cotton industry. The purpose of the Committee would be to review official Universal Standards for U.S. Upland cotton prepared by USDA and make recommendations to the Secretary of Agriculture regarding establishment or revision of the standards established under the United States Cotton Standards Act (7 U.S.C. 51 et seq.). The Deputy Administrator of the Agricultural Marketing Service's Cotton and Tobacco Programs will serve as the Committee's Executive Secretary.

Industry members will be appointed by the Secretary of Agriculture and serve a two (2) year term. Membership will consist of representatives from the cotton industry. The U.S. cotton industry's membership would be comprised of twelve (12) producers and ginners, six (6) representatives of merchandising firms, and six (6) representatives of textile manufacturers. These representatives would be appointed by the Secretary of Agriculture. Each member would have one vote. Accordingly, voting privileges will be divided as follows: U.S. cotton producers and ginners—twelve (12) votes; U.S. merchandising firms—six (6) votes; U.S. textile manufacturers—six (6) votes. There would be two committee members designated from each of the foreign signatory associations. These committee members would be designated by the respective associations. Voting privileges would be divided as follows: foreign signatory merchant associations—six (6) votes; foreign signatory spinner associations—six (6) votes. The members of the re-established Committee will elect a Chairperson of the Committee.

The Secretary of Agriculture invites those individuals, organizations, and groups affiliated with the categories listed above to nominate individuals for membership on the re-established Committee. Nominations should describe and document the proposed member's qualifications for membership to the Committee and list their name, title, address, telephone, and fax number. The Secretary of Agriculture seeks a diverse group of members that represent a broad spectrum of persons interested in providing suggestions and ideas on how USDA can tailor its programs to meet the needs of the cotton industry.

All individuals who wish to nominate themselves can obtain the application form at www.usda.gov/advisory_committees.xml. Applicants should also include their resumes in their submission.

Equal opportunity practices in accordance with USDA policies will be followed in all appointments to the Committee. To ensure that recommendations of the Committee take into account the needs of the diverse groups served by USDA, membership will include to the extent possible, individuals with demonstrated ability to represent minorities, women and persons with disabilities.

Dated: September 28, 2012.
David R. Shipman,
Administrator, Agricultural Marketing Service.

[FR Doc. 2012-24352 Filed 10-2-12; 8:45 am]

BILLING CODE 3410-02-P